FEDERAL TRADE COMMISSION

Granting of Request for Early Termination of the Waiting Period Under the Premerger Notification Rules

Section 7A of the Clayton Act, 15 U.S.C. as added by Title II of the Hart-Scott-Rodino Antitrust Improvements Act of 1976, requires persons contemplating certain mergers or acquisitions to give the Federal Trade Commission and the Assistant Attorney General advance notice and to wait designated periods before consummation of such plans. Section 7 A(b )(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans. No. | Acquiring | Acquired | Entities
TRANSACTIONS GRANTED EARLY TERMINATION—01/23/2007
20070377 | Northrop Grumman Corporation | Essex Corporation | Essex Corporation.
20070522 | Wintergames Holdings SARL | Oak Hill Capital Partners, L.P | Steamboat Ski & Resort Corporation.
20070574 | On Assignment, Inc | Oxford Global Resources, Inc | Oxford Global Resources, Inc.
20070594 | QBE Insurance Group Limited | HDI Haftpflichtverband der Deutschen Industrie VaG | Praetorian Financial Group, Inc.
20070600 | Cisco Systems, Inc | IronPort Systems, Inc | ironPort Systems, Inc.
20070602 | American Securities Partners IV, L.P | NEP, Inc | NEP, Inc.
20070604 | Elder Health, Inc | Health Partners of Philadelphia, Inc | Health Partners of Philadelphia, Inc.
20070616 | Ripplewood Partners II, L.P | Ripplewood Partners, L.P | WRC Media, Inc.
20070620 | D.E. Shaw Composite International Fund | Foamex International, Inc | Foamex International, Inc.
20070621 | The Goldman Sachs Group, Inc | Foamex International, Inc | Foamex International, Inc.
TRANSACTIONS GRANTED EARLY TERMINATION—01/24/2007
20070539 | American Capital Strategies, Ltd | Explorer Pipeline Company, Inc | CITGO Pipeline Holding I, LLC.
20070561 | Seminole Hard Rock Entertainment, Inc | The Rank Group Plc | Rank America, Inc. Rank Group Holdings Limited.
|  |  | Rank Holding Espana SA.
|  |  | Rank Holdings (France) SA.
|  |  | Rank Holdings (Germany) GmbH.
|  |  | Rank Holdings (Netherlands) BV.
|  |  | Rank Leisure Holdings Limited.
|  |  | Rank Overseas Holdings Limited.
|  |  | Rank (UK) Holdings Limited.
20070571 | KAR Holdings II, LLC | ADESA, Inc | ADESA, Inc.
20070591 | Macquarie Infrastructure Company Trust | David G. Price | Aviation Contract Services, Inc.
|  |  | Superman of Stewart, LLC.
|  |  | Supermarine Aviation, Limited.
|  |  | Supermarine Investors, Inc.
|  |  | Supermarine of Santa Monica, a California Limited Partnership.
|  |  | Supermarine of Stewart, LLC.
2070592 | Macquarie Infrastructure Company Trust | Dallas Price-Van Breda | Aviation Contract Services, Inc. Supermarine Aviation, Limited.
|  |  | Supermarine Investors, Inc.
|  |  | Supermarine of Santa Monica, a California Ltd. Partnership.
|  |  | Supermarine of Stewart, LLC.
20070603 | BG Group plc | Lake Road Holding Company, LLC | Lake Road Generating Company, LP.
20080605 | Arlington Capital Partners II, L.P | Michael W. Major | Cambridge Major Laboratories, Inc.
20070613 | Airline Partners Australia Fund | Qantas Airways Limited | Qantas Airways Limited.
TRANSACTIONS GRANTED EARLY TERMINATION—01/25/2007
20070390 | Knight Holdco LLC | Kinder Morgan, Inc | Kinder Morgan, Inc.
20070578 | KGen Power Corporation | MatlinPatterson Global Opportunities Partners II, L.P | KGen Partners LLC.
20070584 | Mittal Steel Company N.V | Julio Cesar Villarreal Guajardo | BSRM Holdings, Inc.
|  |  | Servicios Operativos del Centro, S.A. de C.V.
|  |  | Siderurgica Lazaro Cardenas las Truchas, S.A. de C.V.
|  |  | V.I. Holding, Inc.
20070589 | MPBP Holdings Inc. | Three Cities Offshore II, C.V | Cohr Holdings, Inc.
TRANSACTIONS GRANTED EARLY TERMINATION—01/26/2007
20070555 | Kennametal Inc | Federal Signal Corporation | Clapp Dico Corporation.
|  |  | Manchester Tool Company.
|  |  | On Time Machining Company.
20070562 | Schering-Plough Corporation | ALK-Abello A/S | ALK-Abello A/S.
20070565 | Bridgestone Corporation | Bandag, Incorporated | Bandag, Incorporated.
20070590 | Jolly Roger Offshore Fund, LTD | Hilton Hotels Corporation | Hilton Hotels Corporation.
TRANSACTIONS GRANTED EARLY TERMINATION—01/30/2007
20070587 | Berkshire Hathaway, Inc | Paul E. Andrews, Jr. | CJE, Inc. Mouser Electronics, Inc.
|  |  | TTI, Inc.
20070628 | Stifel Financial Corp | BFC Financial Corporation | Ryan Beck Holdings, Inc.
20070629 | BFC Financial Corporation | Stifel Financial Corp | Stifel Financial Corp.
20070633 | Oak Hill Capital Partners II, L.P | The New York Times Company | KAUT-TV, LLC. New York Times Management Services.
|  |  | NYT Broadcast Holdings, LLC.
|  |  | NYT Holdings, Inc.
20070644 | Quadrangle Capital Partners LP | Integrated Alarm Services Group, Inc | Integrated Alarm Services Group, Inc.
20070646 | Bucyrus International, Inc | RAG Akiengesellschaft | DBT GmbH.
20070647 | Gryphon Partners III, L.P | Norm Daniels | G.I. Joe's, Inc.
20070648 | Welsh, Carson, Anderson & Stowe X, L.P | United Surgical Partners International, Inc | United Surgical Partners International, Inc.
20070649 | Brockway Moran & Partners Fund II, L.P | Odyssey Investment Partners Fund, L.P | TSEI Holdings, Inc.
20070652 | Basic Energy Services, Inc | JetStar Consolidated Holdings, Inc | JetStar Consolidated Holdings, Inc.
20070656 | EXCO Resources, Inc | Anadarko Petroleum Corporation | Anadarko Gathering Company.
TRANSACTIONS GRANTED EARLY TERMINATION—01/31/2007
20070607 | The Goldman Sachs Group, Inc | He Xiangjian | GuangDong Midea Electric Appliances Co., Ltd.
|  |  | Guangdong Province, People's Republic of China.
|  |  | Media Industrial City, Shunde, Foshan.
20070609 | FR XI Offshore AIV., L.P | Brand Holdings, LLC | Brand Energy & Infrastructure Services, Inc.
20070625 | Nucor Corporation | Harris Steel Group, Inc | Harris Steel Group, Inc.
20070626 | WLR Recovery Fund II, L.P | WLR Recovery Fund III, L.P | BST US Holdings, Inc.
20070640 | Financiere Daunou 12 | Lafarge, S.A. | Clay Tiles Holdings Inc.
|  |  | Lafarge Roofing Holdings Inc.
|  |  | MonierLifetile LLC.
|  |  | Tile Service Company LLC.
TRANSACTIONS GRANTED EARLY TERMINATION—02/02/2007
20070381 | Jefferson Health Systems, Inc | Riddle Health System | Riddle Healthcare Associates.
|  |  | Riddle Health Care Services.
|  |  | Riddle Memorial Hospital.
|  |  | Riddle System Services.
|  |  | RMH Physician Services.
20070569 | Harsco Corpration | William Blair Mezzanine Capital Fund III, L.P | Excell Materials, Inc.
20070608 | Welsh, Carson, Anderson & Stowe X, L.P | Spectrum Equity Investors IV, L.P | CBD Investor, Inc.
|  |  | CBD Media, LLC.
|  |  | c/o CBD Investor, Inc.
20070653 | Advent OXO (Cayman) Limited | Celanese Corporation | Celanese Chemicals Europe GmbH.
|  |  | Celanese Ltd.
|  |  | European Oxo Chemicals GmbH.
|  |  | Infraserv GmbH & Co.
|  |  | Ticona Polymers, Inc.
20070658 | Warburg Pincus Equity IX, L.P | Dominion Resources, Inc | Armstrong Energy Limited Partnership, LLP.
|  |  | Dominion Armstrong Services Company, Inc.
|  |  | Dominion Pleasants Services Company, Inc.
|  |  | Dominion Troy Services Company, Inc.
|  |  | Pleasants Energy, LLC.
|  |  | Troy Energy, LLC.
20070659 | Time Warner, Inc | Sci Entertainment Group Plc | Sci Entertainment Group Plc.
20070661 | B.S.A | Mozzarella Fresca, Incorporated | Mozzarella Fresca, Incorporated.
20070663 | Knology, Inc | PrairieWave Holdings, Inc | PrairieWave Holdings, Inc.
20070667 | Macquarie Bank Limited | American Consolidated Media, L.P | American Consolidated Media, Inc.
|  |  | Valley Newspaper Holdings, L.P.
20070668 | Tinicum Capital Partners II, L.P | Enesco Group, Inc | Enesco Group, Inc.
20070670 | Cenveo, Inc | The Huron Fund LP | PC Ink Corp.
20070672 | Leucadia National Corporation | Samer Tawfik | Dialaround Enterprises, Inc.
|  |  | Phonecard Enterprises, Inc.
|  |  | STi Mobile, Inc.
|  |  | STi PCS, LLC.
|  |  | STi Phonecard, Inc.
|  |  | Telco Group, Inc.
|  |  | VOIP Enterprises Inc.
20070674 | GS Capital Partners VI, L.P | USI Holdings Corporation | USI Holdings Corporation.
TRANSACTIONS GRANTED EARLY TERMINATION—02/05/2007
20070516 | GlaxoSmithKline plc | Genmab A/S | Genmab A/S.
20070580 | Cenveo, Inc | Cadmus Communications Corporation | Cadmus Communications Corporation.
20070611 | Welsh, Carson, Anderson & Stowe VIII, L.P | Windstream Corporation | Windstream Regatta Holdings.
20070612 | Welsh, Carson, Anderson & Stowe IX, L.P | Windstream Corporation | Windstream Regatta Holdings.
20070654 | Roche Holding Ltd | Seattle Genetics, Inc | Seattle Genetics, Inc.
20070677 | Citigroup, Inc | ABN AMRO Holding N.V | AAMBG Reinsurance, Inc.
|  |  | ABN AMRO Mortgage Corporation.
|  |  | ABN AMRO Mortgage Group, Inc.
|  |  | Mortgage Group Reinsurance, Ltd.
20070686 | 4363205 Canada, Inc | BCE, Inc | Telesat Canada.
TRANSACTIONS GRANTED EARLY TERMINATION—02/06/2007
20070639 | Intuit, Inc | Electronic Clearing House, Inc | Electronic Clearing House, Inc.
20070689 | B&G Foods, Inc | Altria Group, Inc | COWC Acquisition Corp.
|  |  | Kraft Foods Global, Inc.
TRANSACTIONS GRANTED EARLY TERMINATION—02/07/2007
20070615 | eBay, Inc | StubHub, Inc | StubHub, Inc.
20070682 | Redpoint Ventures I, L.P | BigBand Networks, Inc | BigBand Networks, Inc.
20070685 | FIF III Liberty Holdings LLC | SureWest Communications | SureWest Directories.

For Further Information Contact: Sandra M. Peay, Contact Representative or Renee Hallman, Contact Representative, Federal Trade Commission, Premerger Notification Office, Bureau of Competition, Room H-303, Washington, DC 20580, (202) 326-3100.

By direction of the Commission.
Donald S. Clark,
Secretary.

[FR Doc. 07-633 Filed 2-12-07; 8:45 am]

BILLING CODE 6750-01-M